FEDERAL DEPOSIT INSURANCE CORPORATION

[OMB No. 3064-0127]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collection described below (OMB Control No. 3064-0127).

DATES: Comments must be submitted on or before June 23, 2023.

ADDRESSES: Interested parties are invited to submit written comments to the FDIC by any of the following methods:

• Agency website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Fast-Track Generic Qualitative Surveys.

OMB Number: 3064-0127.

Forms: None.

Affected Public: Private sector; insured state nonmember banks and state savings associations and members of the public interacting with the FDIC.

Burden Estimate:

Summary of Estimated Annual Burden
[OMB No. 3064-0127]
Information collection (obligation to respond) | Type of burden (frequency of response) | Average number of respondents | Frequency | Average time per response (hours) | Estimated annual burden (hours)
Generic Quality of Service Qualitative Surveys (Voluntary) | Reporting (Occasional) | 850 | 20 | 1 | 17,000
Total Estimated Annual Burden (Hours): |  |  |  |  | 17,000
Source: FDIC.

General Description of Collection: This information collection establishes ongoing authority for FDIC to conduct yet-to-be-determined occasional quality-of service surveys under OMB's generic survey program. Once this information collection extension request is approved by OMB, FDIC will be able to obtain expedited approval of individual surveys by following a special submission process that does not require the publication of Federal Register notices for each individual survey. Generic clearance requests should be approved by OMB within five business days of submission. FDIC estimates that the generic surveys to be deployed under this information collection each will involve an average of 850 respondents, generally should not require more than one hour per respondent to complete, and are always voluntary in nature. FDIC estimates that it will deploy approximately 20 such surveys annually. The purpose of the surveys is, in general terms, to obtain anecdotal information on a voluntary basis about quality of service, regulatory burden, problems or successes in the bank supervisory process (including exams related to both safety and soundness, and compliance with consumer protection laws and regulations), the perceived need for regulatory or statutory change, and similar concerns. There is no change in the substance or methodology of this information collection and the estimated annual burden remains unchanged.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on April 19, 2023.
James P. Sheesley,
Assistant Executive Secretary.

[FR Doc. 2023-08552 Filed 4-21-23; 8:45 am]

BILLING CODE 6714-01-P